ENVIRONMENTAL PROTECTION AGENCY

[EPA-HQ-OECA-2012-0681; FRL 9532-8]

Information Collection Request Submitted to OMB for Review and Approval; Comment Request; NSPS for Commercial and Industrial Solid Waste Incineration Units (Renewal)

AGENCY: Environmental Protection Agency (EPA).

ACTION: Notice.

SUMMARY: The Environmental Protection Agency has submitted an information collection request (ICR), “NSPS for Commercial and Industrial Solid Waste Incineration Units (40 CFR Part 60, Subpart CCCC) (Renewal)” (EPA ICR No. 1926.06, OMB Control No. 2060-0450) to the Office of Management and Budget (OMB) for review and approval in accordance with the Paperwork Reduction Act (44 U.S.C. 3501 et seq.). This is a proposed extension of the ICR, which is currently approved through June 30, 2013. Public comments were previously requested via the Federal Register (77 FR 63813) on October 17, 2012, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 24, 2013.

ADDRESSES: Submit your comments, referencing Docket ID Number EPA-HQ-OECA-2012-0681, to: (1) EPA online using www.regulations.gov (our preferred method), by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2223A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: The affected entities are subject to the General Provisions of the NSPS at 40 CFR part 60, subpart A, and any changes, or additions to the Provisions specified at 40 CFR part 60, subpart CCCC. Owners or operators of the affected facilities must submit an initial notification, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Owners or operators of commercial and industrial solid waste incineration units.

Respondent's obligation to respond: Mandatory (40 CFR part 60, subpart CCCC).

Estimated number of respondents: 30 (total).

Frequency of response: Initially, occasionally, semiannually and annually.

Total estimated burden: 5,965 hours (per year). “Burden” is defined at 5 CFR 1320.3(b).

Total estimated cost: $959,788 (per year), includes $382,200 annualized capital or operation & maintenance costs.

Changes in the Estimates: There is an increase in the Agency costs from the most recently approved ICR due to an increase in labor rates. This ICR uses updated labor rates in calculating all burden costs.

Additionally, when compared to the previous ICR, there is a decrease in respondent burden and an increase in the total O&M costs. The previous ICR included contractor labor costs associated with initial emissions testing and annual stack testing under Table 1, Annual Respondent Burden and Cost. Since the contractor labor costs apply solely to capital/startup and O&M activities, we have revised the ICR to reflect contractor labor costs under their respective capital/startup and O&M activities, and also have updated the associated contractor labor burden rate.

There is also a decrease in capital/startup costs in this ICR as new sources will become subject to the 2013 standards and will not have burden associated with capital/startup under this NSPS.

Richard T. Westlund,
Acting Director, Collection Strategies Division.

[FR Doc. 2013-15026 Filed 6-21-13; 8:45 am]

BILLING CODE 6560-50-P